DEPARTMENT OF LABOR

Employment and Training Administration

[TA-W-37,257, TA-W-37,257A]

Great American Knitting Mills, Bally, Pennsylvania and Great American Knitting Mills, Pottstown, Pennsylvania; Notice of Termination of Investigation

Pursuant to section 221 of the Trade Act of 1974, an investigation was initiated on January 18, 2000, in response to a worker petition which was filed by the company on behalf of its workers at Great American Knitting mills, located in Bally and Pottstown, Pennsylvania. The workers produce men's socks.

The petitioner has requested that the petition be withdrawn. Consequently further investigation in this case would serve no purpose, and the investigation has been terminated.

Signed in Washington, DC, this 31st day of January, 2000.
Grant D. Beale,
Program Manager, Office of Trade Adjustment Assistance.

[FR Doc. 00-3497 Filed 2-14-00; 8:45 am]

BILLING CODE 4510-30-M